DEPARTMENT OF HOMELAND SECURITY

Federal Emergency Management Agency

[Docket ID: FEMA-2015-0007; OMB No. 1660-NEW]

Agency Information Collection Activities: Proposed Collection; Comment Request; Ready PSA Campaign Creative Testing Research.

AGENCY: Federal Emergency Management Agency, DHS.

ACTION: Notice.

SUMMARY: The Federal Emergency Management Agency, as part of its continuing effort to reduce paperwork and respondent burden, invites the general public and other Federal agencies to take this opportunity to comment on a new information collection. In accordance with the Paperwork Reduction Act of 1995, this notice seeks comments concerning the Ready campaign, which is a national public service advertising (PSA) campaign in support of FEMA's mission and is designed to educate and empower Americans to prepare for and respond to emergencies including natural and man-made disasters.

DATES: Comments must be submitted on or before April 6, 2015.

ADDRESSES: To avoid duplicate submissions to the docket, please use only one of the following means to submit comments:

(1) Online. Submit comments at www.regulations.gov under Docket ID FEMA-2015-0007. Follow the instructions for submitting comments.

(2) Mail. Submit written comments to Docket Manager, Office of Chief Counsel, DHS/FEMA, 500 C Street SW., Room 8NE, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Aretha Carter, External Affairs Specialist, Federal Emergency Management Agency, (202) 288-6783, Aretha.Carter@fema.dhs.gov. You may contact the Records Management Division for copies of the proposed collection of information at facsimile number (202) 212-4701 or email address: FEMA-Information-Collections-Management@fema.dhs.gov.

SUPPLEMENTARY INFORMATION: This collection is in accordance with Executive Orders 12862 and 13571 requiring all Federal agencies to survey customers to determine the kind and quality of services they want and their level of satisfaction with existing services. The Government Performance and Results Act (GPRA) requires Federal agencies to set missions and goals and to measure agency performance against them. The GPRA Modernization Act of 2010 requires quarterly performance assessments of government programs for the purposes of assessing agency performance and improvement. The Federal Emergency Management Agency is collecting information through focus groups to improve its public service advertising campaign on disaster preparedness.

Collection of Information

Title: Ready PSA Campaign Creative Testing Research.

Type of Information Collection: New information collection.

OMB Number: 1660-NEW.

FEMA Forms: FEMA Form 008-0-21, Recruitment Screener; FEMA Form 008-0-22, Focus Group Discussion Guide.

Abstract: FEMA proposes conducting qualitative research in the form of focus groups in order to test creative concepts developed for FEMA's national Ready public service advertising campaign, which aims to educate and empower Americans to prepare for and respond to emergencies. The research will help determine the clarity, relevance, and motivating appeal of the concepts prior to final production of the advertising.

Affected Public: Individuals or households.

Number of Respondents: 50.

Number of Responses: 90.

Estimated Total Annual Burden Hours: 58 hours.

Estimated Annualized Burden Hours and Costs
Type of respondent | Form name/form No. | Number of respondents | Number of responses per respondent | Total number of responses | Average burden per response (in hours) | Total annual burden (in hours) | Average hourly wage rate | Total annual respondent cost
Individuals or Households | Recruitment Screener (survey script)/FEMA Form 008-0-21 | 50 | 1 | 50 | 0.1667 (10 minutes) | 8 | $31.26 | $250.08
Individuals or Households | Focus Group Discussion Guide/FEMA Form 008-0-22 | 40 | 1 | 40 | 1.25 hours (75 minutes) | 50 | 31.26 | 1,563
Total |  | 50 |  | 90 |  | 58 |  | 1,813.08
• Note: The “Avg. Hourly Wage Rate” for each respondent includes a 1.4 multiplier to reflect a fully-loaded wage rate.

Estimated Cost: The estimated annual cost to respondents for the hour burden is $1,813.08. There are no annual costs to respondents' operations and maintenance costs for technical services. There are no annual start-up or capital costs. The cost to the Federal Government is $53,383.12.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: January 28, 2015.
Charlene D. Myrthil,
Director, Records Management Division, Mission Support, Federal Emergency Management Agency, Department of Homeland Security.

[FR Doc. 2015-02231 Filed 2-4-15; 8:45 am]

BILLING CODE 9116-69-P